DEPARTMENT OF COMMERCE

National Oceanic and Atmospheric Administration

RIN 0648-XC100

Marine Mammals; File No. 17115

AGENCY: National Marine Fisheries Service (NMFS), National Oceanic and Atmospheric Administration (NOAA), Commerce.

ACTION: Notice; receipt of application for permit amendment.

SUMMARY: Notice is hereby given that James Lloyd-Smith, Department of Ecology and Evolutionary Biology, University of California, Los Angeles, 610 Charles E. Young Dr. South, Box 723905, Los Angeles, CA 90095-7239, has applied for an amendment to Scientific Research Permit No. 17115-00.

DATES: Written, telefaxed, or email comments must be received on or before August 14, 2013.

ADDRESSES: The application and related documents are available for review by selecting “Records Open for Public Comment” from the Features box on the Applications and Permits for Protected Species home page, https://apps.nmfs.noaa.gov, and then selecting File No. 17115 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include File No. 17115 in the subject line of the email comment.

Those individuals requesting a public hearing should submit a written request to the Chief, Permits and Conservation Division at the address listed above. The request should set forth the specific reasons why a hearing on this application would be appropriate.

FOR FURTHER INFORMATION CONTACT: Amy Sloan, (301) 427-8401.

SUPPLEMENTARY INFORMATION: The subject amendment to Permit No. 17115-00 is requested under the authority of the Marine Mammal Protection Act of 1972, as amended (16 U.S.C. 1361 et seq.), and the regulations governing the taking and importing of marine mammals (50 CFR part 216).

Permit No. 17115-00, issued on September 24, 2012 (77 FR 63296), authorizes the permit holder to study the prevalence of leptospirosis in wild California sea lions (Zalophus californianus) in California. Up to 80 California sea lions may be taken annually on Año Nuevo Island by capture (including restraint and anesthesia); marking and measuring; sampling (blood, urine, vibrissae); and release. A limited number of non-target sea lions may be captured and released without sampling. Up to 5,000 sea lions, 3,000 northern elephant seals (Mirounga angustirostris), and 60 harbor seals (Phoca vitulina) may be taken by incidental disturbance annually. Four unintentional mortalities of California sea lions are authorized. The permit expires September 30, 2017.

The permit holder is requesting the permit be amended to expand the scope of the study and include authorization for capture, sampling, and release of California sea lions as described above at two additional sampling sites in California (160 animals at San Nicolas Island and 80 animals at Monterey Bay). A limited number of non-target sea lions may be captured and released without sampling. The permit holder also requests incidental disturbance at each of the new sites for the following species: California sea lions (6,000 on San Nicolas Island; and 3,000 in Monterey Bay); Northern elephant seals (2,000 on San Nicolas; and 100 in Monterey Bay); and Pacific harbor seals (100 on San Nicolas, and 50 in Monterey Bay). The permit holder proposes to disentangle and mark/sample a limited number of California sea lions encountered during the research activities. Permission to increase the number of mortalities of California sea lions from four to eight over the duration of the permit is requested. The applicant also requests to extend the maximum number of sampling years from four to five over the duration of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 9, 2013.
P. Michael Payne,
Chief, Permits and Conservation Division, Office of Protected Resources, National Marine Fisheries Service.

[FR Doc. 2013-16766 Filed 7-12-13; 8:45 am]

BILLING CODE 3510-22-P